DEPARTMENT OF JUSTICE

Antitrust Division

Notice Pursuant to the National Cooperative Research and Production Act of 1993—Medical CBRN Defense Consortium

Notice is hereby given that, on October 13, 2023, pursuant to section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Compleo Technologies LLC, Newtown, CT; Core4ce LLC, Reston, VA; KRI at Northeastern University LLC, Burlington, MA; and North American Rescue LLC, Greer, SC, have been added as parties to this venture.

Also, Alltropic Tech, Halethorpe, MD; California Institute for Biomedical Research, La Jolla, CA; GenArraytion Inc., Rockville, MD; Integrated Biotherapeutics, Inc., Rockville, MD; International Business Machines Corp., Yorktown Heights, NY; Luna Labs USA LLC, Charlottesville, VA; Mesa Tech International, San Diego, CA; Qorvo Biotechnologies LLC, Bend, OR; Sentinel Analytics Software, Inc., Davis, CA; SGSD Partners LLC, Washington, DC; Synthetic Genomics Vaccines, Inc., La Jolla, CA; Unify R&D, Elkridge, MD; and Vector RX LLC, Elkridge, MD, have withdrawn as parties to this venture.

No other changes have been made in either the membership or planned activity of the group research project. Membership in this group research project remains open, and MCDC intends to file additional written notifications disclosing all changes in membership.

On November 13, 2015, MCDC filed its original notification pursuant to section 6(a) of the Act. The Department of Justice published a notice in the Federal Register pursuant to section 6(b) of the Act on January 6, 2016 (81 FR 513).

The last notification was filed with the Department on July 17, 2023. A notice was published in the Federal Register pursuant to section 6(b) of the Act on October 5, 2023 (88 FR 69231).

Suzanne Morris,
Deputy Director Civil Enforcement Operations, Antitrust Division.

[FR Doc. 2023-27575 Filed 12-14-23; 8:45 am]

BILLING CODE P